DEPARTMENT OF DEFENSE

Department of the Air Force

Notice of Intent To Prepare an Environmental Impact Statement for the B-21 Beddown Main Operating Base 2 (Mob 2)/Main Operating Base 3 (Mob 3) at Dyess Air Force Base, Texas or Whiteman Air Force Base, Missouri

AGENCY: Department of the Air Force, Department of Defense.

ACTION: Notice of intent.

SUMMARY: The Department of the Air Force (DAF) is issuing this Notice of Intent (NOI) to prepare an Environmental Impact Statement (EIS) to assess the potential environmental impacts associated with the beddown of the B-21 Main Operating Base 2 (MOB 2)/Main Operating Base 3 (MOB 3) at Dyess Air Force Base (AFB), Texas or Whiteman AFB, Missouri. The EIS will evaluate the potential impacts of the DAF's beddown proposal associated with infrastructure construction, demolition, renovations, additional personnel, and changes in aircraft operations at Dyess AFB and Whiteman AFB, including associated airspace. The B-21 will eventually replace existing B-1 and B-2 bomber aircraft.

DATES: A public scoping period of 45 days will take place starting from the date of this NOI publication in the Federal Register. This scoping period will be conducted in compliance with NEPA and section 106 consultation pursuant to Code of Federal Regulations title 36, section 800.2(d). Please provide substantive comments which identify potential alternatives (in accordance with 40 CFR 1502.14(a) and 32 CFR 989.8), information, and analyses relevant to the proposed action. Comments will be accepted at any time during the environmental impact analysis process; however, to ensure DAF has sufficient time to consider public scoping comments during preparation of the Draft EIS, please submit comments within the 45-day scoping period. Scoping comments should be submitted to the website or the address listed below by May 8, 2023. The Draft EIS is anticipated in Fall 2023 and the Final EIS is anticipated in Summer 2024. The Record of Decision would be approved and signed no earlier than 30 days after the Final EIS.

The DAF intends to hold scoping meetings from 5:30 p.m. to 7:30 p.m. CST in the following communities on the following dates:

1. Virtual—Tuesday, April 11, 2023, via Zoom. Visit www.B21EIS.com for registration and meeting links. To listen only, dial in by phone at 888-788-0099, Webinar ID: 813 5934 9395, Passcode: 570587

2. Virtual—Thursday, April 13, 2023, via Zoom. Visit www.B21EIS.com for registration and meeting links. To listen only, dial in by phone at 888-788-0099, Webinar ID: 813 5934 9395, Passcode: 570587

3. Whiteman AFB—Tuesday, April 18, 2023, at the University of Central Missouri, 108 W. South St., Warrensburg, MO

4. Whiteman AFB—Thursday, April 20, 2023, at the Knob Noster High School, 504 South Washington Ave., Knob Noster, MO

5. Dyess AFB—Tuesday, April 25, 2023, at the Abilene Convention Center, 1100 N 6th St., Abilene, TX

6. Dyess AFB—Thursday, April 27, 2023, at the Tye Community Center, 103 Scott St., Tye, TX

ADDRESSES: Additional information on the B-21 MOB 2/MOB 3 Beddown EIS environmental impact analysis process can be found on the project website at www.B21EIS.com. The project website can also be used to submit comments. Comments-by-mail regarding the proposal should be sent to Leidos, ATTN: B-21 EIS, 12304 Morganton Hwy #572, Morganton, GA 30560. Inquiries regarding the proposal should be directed to Dyess AFB Public Affairs, ATTN: B-21 EIS, 7 Lancer Loop, Suite 136, Dyess AFB, TX 79607; (325) 696-4820; 7bwpa@us.af.mil; or Whiteman AFB Public Affairs, ATTN: B-21 EIS, 509 Spirit Blvd., Bldg. 509, Suite 116, Whiteman AFB, MO 65305; (660) 687-5727; 509bw.public.affairs@us.af.mil. For printed material requests, the standard U.S. Postal Service shipping timeline will apply.

SUPPLEMENTARY INFORMATION: The beddown of the B-21 will take place through a series of beddowns at three Main Operating Bases (MOBs), referred to as MOB 1, MOB 2, and MOB 3. The candidate MOB locations were determined through the DAF's Strategic Basing Process (Air Force Instruction [AFI] 10-503, Strategic Basing), which identified Dyess AFB in Texas, Ellsworth AFB in South Dakota, and Whiteman AFB in Missouri as potential installations to beddown the B-21 Raider. The B-21 will operate under the direction of the Air Force Global Strike Command.

The purpose of the Proposed Action is to implement the goals of the National Defense Strategy by modernizing the United States bomber fleet capabilities. The B-21 Raider is being developed to carry conventional payloads and to support the nuclear triad by providing a visible and flexible nuclear deterrent capability that will assure allies and partners through the United States' commitment to international treaties. MOB 2 will support training of crewmembers and personnel in the operation and maintenance of the B-21 aircraft in an appropriate geographic location that can provide sufficient airfield, facilities, infrastructure, and airspace to support the B-21 training and operations.

In 2021, the DAF completed the B-21 MOB 1 Beddown at Dyess, AFB Texas or Ellsworth AFB, South Dakota EIS (hereinafter referred to as the “MOB 1 EIS”). On June 3, 2021, the DAF signed a Record of Decision (ROD) for the MOB 1 EIS and selected Ellsworth AFB as the MOB 1 location. Because the DAF chose Ellsworth AFB for MOB 1, the EIS for MOB 2/MOB 3 will evaluate potential environmental consequences associated with the remaining two alternative bases: Dyess AFB or Whiteman AFB. The proposed beddown would include B-21 Operations Squadrons, Weapons Instructor Course (WIC), and Operational Test and Evaluation (OT&E) Squadron, as well as a Weapons Generation Facility (WGF). Potential impacts of these four components (i.e., Operations Squadrons, WIC, OT&E, and WGF) will be analyzed for both alternative locations, Dyess AFB and Whiteman AFB.

The EIS will analyze Dyess AFB and Whiteman AFB as basing alternatives for the Proposed Action, as well as a No Action Alternative. The basing alternatives were developed to minimize mission impact, maximize facility reuse, minimize cost, and reduce overhead, as well as leverage the strengths of each base to optimize the B-21 beddown strategy. At Dyess AFB, proposed activities include an estimated 4.2 million square feet (SF) of construction, 600,000 SF of renovation, and 300,000 SF of demolition. Proposed airspace for B-21 operations out of Dyess AFB include special use airspace (SUA) units over areas in Texas and New Mexico. At Whiteman AFB, proposed activities include an estimated 600,000 SF of construction, 1.7 million SF of renovation, and 85,000 SF of demolition. Proposed airspace for B-21 operations out of Whiteman AFB include SUA units over areas in Missouri and Kansas. The potential impacts of the alternatives and the No Action Alternative that the EIS may examine include impacts to land use, airspace, safety, noise, hazardous materials and solid waste, physical resources (including earth and water resources), air quality, transportation, cultural resources, biological resources, socioeconomics, and environmental justice.

The DAF is preparing this EIS in accordance with the National Environmental Policy Act (NEPA) of 1969; 40 Code of Federal Regulations (CFR), Parts 1500 through 1508 (85 FR 43359, July 16, 2020, as amended by 87 FR 23453, April 20, 2022), the Council on Environmental Quality (CEQ) regulations implementing NEPA; and the DAF's Environmental Impact Analysis Process (EIAP) as codified in 32 CFR part 989. Since the B-21 basing action is a series of beddowns, once a base is selected for MOB 2, the remaining base would subsequently become the MOB 3 beddown location.

DAF anticipates potential noise impacts to be similar to, or less than, those currently experienced at Dyess AFB and Whiteman AFB, including associated airspace.

Potential permits that may be required include, but are not limited to, section 404 of the Clean Water Act, General Construction, Floodplain Development, and National Pollutant Discharge Elimination System. Additionally, the DAF will coordinate with U.S. Fish and Wildlife Service under section 7 of the Endangered Species Act, as well as SHPO and federally recognized tribes regarding section 106 consultation under the National Historic Preservation Act and will utilize the scoping process to partially fulfill consultation requirements.

Scoping and Agency Coordination: The scoping process will be used to involve the public early in the planning and development of the EIS and help identify issues to be addressed in the environmental analysis. To effectively define the full range of issues and concerns to be evaluated in the EIS, the DAF is soliciting scoping comments from interested local, state, and federal agencies (including, but not limited to U.S. Army Corps of Engineers, State Historic Preservation Offices (SHPO), and U.S. Fish and Wildlife Service) and interested members of the public.

The proposed action at Dyess AFB and Whiteman AFB is subject to the Clean Water Act, sections 401, 404 and 404(b)(1) guidelines and have the potential to be located in a floodplain and/or wetland. Consistent with the requirements and objectives of Executive Order (E.O.) 11990, “Protection of Wetlands”, and E.O. 11988, “Floodplain Management”, as amended by E.O. 13690, “Establishing a Federal Flood Risk Management Standard and a Process for Further Soliciting and Considering Stakeholder Input,” state and federal regulatory agencies with special expertise in wetlands and floodplains will be contacted to request comment. Consistent with E.O. 11988, E.O. 13690, and E.O. 11990, this NOI initiates early public review of the proposed actions and alternatives, which have the potential to be located in a floodplain and/or wetland.

The DAF will hold scoping meetings to inform the public and solicit comments and concerns about the proposal. Scheduled dates, and times for each meeting, as well as registration information for virtual meetings, will be available on the project website (www.B21EIS.com) and published in the local media a minimum of fifteen (15) days prior to each meeting.

Tommy W. Lee,
Acting Air Force Federal Register Liaison Officer.

[FR Doc. 2023-06175 Filed 3-24-23; 8:45 am]

BILLING CODE 5001-10-P